ENVIRONMENTAL PROTECTION AGENCY

[FRL-7607-4]

Science Advisory Board (SAB) Staff Office Notification of Multiple Upcoming Meetings

AGENCY: Environmental Protection Agency (EPA).

ACTION: Notice.

SUMMARY: The Environmental Protection Agency Science Advisory Board (SAB) Staff Office announces upcoming multiple teleconferences of:

(1) SAB Committee on Valuing the Protection of Ecological Systems and Services: Public teleconferences to plan its future work, including a workshop and advisory meeting.

(2) SAB Multimedia, Multipathway, and Multireceptor Risk Assessment (SAB 3MRA) Modeling System Panel: Public teleconferences to review drafts and finalize its report.

(3) Clean Air Scientific Advisory Committee's (CASAC) Particulate Matter (PM) Review Panel: Public teleconference to discuss follow-on matters related to its review of the EPA Air Quality Criteria Document for Particulate Matter (Fourth External Review Draft).

DATES: The SAB Committee on Valuing the Protection of Ecological Systems and Services will hold public teleconferences on January 20, 21, and 22, 2004 from 12:30 p.m. to 2:30 p.m. (Eastern Time).

The SAB 3MRA Panel will hold public teleconferences on January 16, February 6, and February 27, 2004, from 1 p.m. to 5 p.m. (Eastern Time).

The CASAC PM Review Panel public teleconference will take place on February 3, 2004 from 11 a.m. to 2 p.m. (Eastern Time).

ADDRESSES: Participation in the meetings indicated above will be by teleconference only. Supplemental materials and an agenda for each meeting will be announced on the SAB Web site, http://www.epa.gov/sab prior to the teleconference.

FOR FURTHER INFORMATION CONTACT: Members of the public who wish to obtain the call in number and access code to participate in any of the teleconferences, or who wish to submit written or brief oral comments (three minutes or less) must contact the appropriate Designated Federal Officer (DFO) listed below:

(1) For information regarding the SAB Committee on Valuing the Protection of Ecological Systems and Services please contact Dr. Angela Nugent. Dr. Nugent can be contacted via telephone/voice mail: (202) 564-4562, fax: (202) 501-0582, or e-mail: nugent.angela@epa.gov.

(2) For information regarding the SAB 3MRA Panel contact Ms. Kathleen White. Ms. White can be contacted via telephone/voice mail: (202) 564-4559, fax: (202) 501-0582, or e-mail: white.kathleen@epa.gov.

(3) For information regarding the CASAC PM Review Panel contact Mr. Fred Butterfield. Mr. Butterfield can be contacted via telephone/voice mail: (202) 564-4562, fax: (202) 501-0582, or e-mail: butterfield.fred@epa.gov.

To reach a central number at the SAB Staff Office, please call via telephone (202) 564-4533, U.S. EPA Science Advisory Board (1400A), 1200 Pennsylvania Avenue, NW, Washington, DC 20460. General information about the SAB and CASAC can be found on the SAB Web site at http://www.epa.gov/sab.

SUPPLEMENTARY INFORMATION:

Background and Summary

The SAB Committee on Valuing the Protection of Ecological Systems and Services is holding three public teleconferences to plan its future work, including a workshop and public advisory meeting tentatively planned for April 13-15, 2004. Background on the Committee and its charge was provided in a Federal Register notice published on March 7, 2003 (68 FR 11082). The overall charge to the Committee is to assess Agency needs and the state of the art and science of valuing protection of ecological systems and services, and then to identify key areas for improving knowledge, methodologies, practice, and research.

The SAB 3MRA Panel will hold three public teleconferences for the SAB 3MRA Panel to further edit and discuss approval of the SAB 3MRA Panel's final report. The SAB 3MRA Panel will complete discussion of its second draft report during the January 16, 2004 teleconference. The SAB 3MRA Panel will discuss its third draft report during the February 6, 2004 teleconference. The purpose of the February 27, 2004 teleconference is to finalize the SAB 3MRA Panel's report for the SAB's consideration and for transmittal to the Administrator.

Background on the SAB 3MRA Panel, and this review was provided in Federal Register notice published on April 11, 2003 (68 FR 17797-17800). Additional meetings were announced in a Federal Register notice published on August 6, 2003 (68 FR 46606-46607). More information regarding this review can be found at the SAB Web site at http://www.epa.gov/sab/panels/SAB 3MRAmspanel.html.

The CASAC, comprised of seven members appointed by the Administrator, was established under section 109(d)(2) of the Clean Air Act (CAA or “Act”) (42 U.S.C. 7409) as an independent scientific advisory committee, in part to provide advice, information and recommendations on the scientific and technical aspects of issues related to air quality criteria and National Ambient Air Quality Standards (NAAQS) under sections 108 and 109 of the Act. The CASAC, which is administratively located under the EPA Science Advisory Board Staff Office, is a Federal advisory committee chartered under the Federal Advisory Committee Act (FACA), as amended, 5 U.S.C., App. The CASAC PM Review Panel consists of the CASAC, supplemented by expert consultants. The CASAC PM Review Panel will comply with the provisions of FACA and all appropriate SAB Staff Office procedural policies.

The CASAC PM Review Panel is charged in part with providing advice, information and recommendations on the scientific and technical aspects of issues related to air quality criteria and NAAQS for particulate matter. The February 3, 2004 teleconference is a follow-on to the CASAC PM Review Panel's review of the EPA Air Quality Criteria Document for Particulate Matter (Fourth External Review Draft), which took place in a public meeting held in Research Triangle Park on August 25-26, 2003 (68 FR 47060, August 7, 2003); and which was continued during a public teleconference held on October 3, 2003 (68 FR 53734, September 12, 2003); and a public meeting which took place in Research Triangle Park on November 12-13, 2003 (68 FR 60363, October 22, 2003). More information regarding this review can be found at the SAB Web site at http://www.epa.gov/sab/pdf/casac104002.pdf.

Providing Oral or Written Comments at SAB Meetings

It is the policy of the SAB Staff Office to accept written public comments of any length, and to accommodate oral public comments whenever possible. The SAB Staff Office expects that public statements presented at its teleconferences and meetings will not be repetitive of previously-submitted oral or written statements. Oral Comments: In general, for teleconference meetings, opportunities for oral comment will be limited to no more than three minutes per speaker and no more than fifteen minutes total. Requests to provide oral comments must be in writing (e-mail, fax or mail) and received by the DFO no later than noon Eastern Time five business days prior to each teleconference in order to reserve time on the teleconference agenda. Written Comments: Although the SAB Staff Office accepts written comments until the date of the meeting (unless otherwise stated), written comments should be received in the SAB Staff Office at least seven business days prior to the teleconference date so that the comments may be made available to the committee or panel for their consideration. Comments should be supplied to the DFO at the address/contact information noted above in the following formats: one hard copy with original signature, and one electronic copy via e-mail (acceptable file format: Adobe Acrobat, WordPerfect, Word, or Rich Text files (in IBM-PC/Windows 95/98 format)).

Meeting Accommodations

Individuals requiring special accommodation to access these teleconferences, should contact the DFO at least five business days prior to the teleconference so that appropriate arrangements can be made.

Dated: December 30, 2003.
Vanessa T. Vu,
Director, EPA Science Advisory Board Staff Office.

[FR Doc. 04-209 Filed 1-5-04; 8:45 am]

BILLING CODE 6560-50-P